DEPARTMENT OF ENERGY

Federal Energy Regulatory Commission

[Docket No. PL01-7-000]

Conference on Energy Infrastructure; Notice of Conference

September 28, 2001.

The Federal Energy Regulatory Commission (FERC) will hold a conference on energy infrastructure issues in the Western states on Friday, November 2, 2001 at the WestCoast Grand Hotel in Seattle Washington.

The conference will discuss the Western region's electric and gas infrastructure (electric generation and transmission, and fuel delivery, and storage), and related matters. The Governors of the western states have been invited to participate. The goal is to identify regional infrastructure issues and their implications for the future economic development of the region. We look forward to an informative discussion of the issues, and how we can facilitate and enhance a comprehensive collaborative approach to energy infrastructure development. It is our firm belief that until we have an adequate well-functioning energy infrastructure, we cannot expect workably competitive markets.

The one-day meeting will begin at 9:00 a.m. and will end about 4:00 p.m. This conference will follow a meeting of the western Committee on Regional Electric Power Cooperation (CREPC) at the same location.

All interested parties are invited to attend the conference on November 2.

We will issue further details on the conference, including the agenda and a list of participating discussants, as plans evolve. For additional information, please contact Saida Shaalan at 202-208-0278 or Saida.Shaalan@ferc.fed.us.

Linwood A. Watson, Jr.,
Deputy Secretary.

[FR Doc. 01-24970 Filed 10-4-01; 8:45 am]

BILLING CODE 6717-01-P